DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: National Advisory Council on Nurse Education and Practice (NACNEP) has scheduled a public meeting. Information about NACNEP and the agenda for this meeting can be found on the NACNEP website at https://www.hrsa.gov/advisory-committees/nursing/index.html.

DATES: January 28, 2019, 8:30 a.m.-4:30 p.m. and January 29, 2019, 8:30 a.m.-2:30 p.m. ET.

ADDRESSES: This meeting will be held in-person and by teleconference and webinar. The address for the meeting is 5600 Fishers Lane, Rockville, Maryland 20857.

• Conference call-in number: 1-888-455-0640; passcode: HRSA COUNCIL.

• Webinar link: https://hrsa.connectsolutions.com/nacnep/.

FOR FURTHER INFORMATION CONTACT: Deitra W. Scott, MSN, RN, Nurse Consultant, Division of Nursing and Public Health, Bureau of Health Workforce, HRSA, 5600 Fishers Lane, 11N112, Rockville, Maryland 20857; 301-945-3113; or DScott1@hrsa.gov.

SUPPLEMENTARY INFORMATION: NACNEP provides advice and recommendations to the Secretary of HHS (Secretary) and Congress on policy issues related to the activities carried out under Title VIII of the Public Health Service (PHS) Act, including issues related to the nurse workforce, education, and practice improvement. NACNEP also prepares and submits an annual report to the Secretary and Congress describing its activities, including NACNEP's findings and recommendations concerning activities under Title VIII, as required by the PHS Act.

During the January 28-29, 2019, meeting, NACNEP will finalize the 15th Report (topic is Promoting Nursing Leadership in the Transition to Value-Based Care) and continue discussions on potential topics for its 16th Report. Agenda items are subject to change as priorities dictate. The meeting agenda will be available at the NACNEP website at least 14 days prior to the meeting. Refer to the NACNEP website for any updated information concerning the meeting.

Members of the public will have the opportunity to provide comments. Public participants may submit written statements in advance of the scheduled meeting. Oral comments will be honored in the order they are requested and may be limited as time allows. Requests to submit a written statement or make oral comments to NACNEP should be sent to Deitra W. Scott, Nurse Consultant, using the contact information above at least 3 business days prior to the meeting.

Individuals who plan to attend and need special assistance or another reasonable accommodation should notify Deitra W. Scott at the address and phone number listed above at least 10 business days prior to the meeting. Since this meeting occurs in a federal government building, attendees must go through a security check to enter the building. Non-U.S. Citizen attendees must notify HRSA of their planned attendance at least 10 business days prior to the meeting in order to facilitate their entry into the building. All attendees are required to present government-issued identification prior to entry.

Amy P. McNulty,
Acting Director, Division of the Executive Secretariat.

[FR Doc. 2018-28292 Filed 12-27-18; 8:45 am]

BILLING CODE 4165-15-P